DEPARTMENT OF ENERGY

Federal Energy Regulatory Commission

[Docket No. PR08-15-002]

Energy Transfer Fuel, LP; Notice of Compliance Filing

August 14, 2008.

Take notice that on August 11, 2008, Energy Transfer Fuel, LP filed a Statement of Operating Conditions pursuant to section 284.123(e) of the Commission's regulations and to comply with the July 11, 2008, order issued in Docket Nos. PR08-15-000 and PR08-15-001.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment date is: 5 p.m. Eastern Time on Friday, August 22, 2008.

Nathaniel J. Davis, Sr.,
Deputy Secretary.

[FR Doc. E8-19469 Filed 8-21-08; 8:45 am]

BILLING CODE 6717-01-P